DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of three persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On February 7, 2018, OFAC determined that that the property and interests in property subject to U.S. jurisdiction of the following persons are blocked under the relevant sanctions authority listed below.

Individuals

1. MUHAMMAD, Rahman Zeb Faqir (a.k.a. MUHAMMAD, Rahman Zayb Faqir; a.k.a. “ALAMZEB”; a.k.a. “AURANGZEB”; a.k.a. “KHAN, Rahman Ieb”; a.k.a. “ZAIB, Alam”; a.k.a. “ZAIB, Rehman”; a.k.a. “ZEB, Rahman R”), Bashgram Laal Qila Wersakay, Lower Dir, Khyber Pakhtunkhwa Province, Pakistan; Lalqillah, Lower Dir District, Khyber Pakhtunkhwa Province, Pakistan; DOB 01 Jan 1970; alt. DOB 01 Jan 1974; POB Dir, Pakistan; nationality Pakistan; National ID No. 1530562382221 (Pakistan) (individual) [SDGT] (Linked To: LASHKAR E-TAYYIBA).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, LASHKAR E-TAYYIBA, an entity determined to be subject to E.O. 13224.

2. KHAN, Hizb Ullah Astam (a.k.a. MOAZZAM, Hizbullah Qari; a.k.a. “Hazab Allah”; a.k.a. “Hazab Ullah”; a.k.a. “Hazeb Ullah”; a.k.a. “Hazib Ullah”; a.k.a. “Hiz Bullah”; a.k.a. “Hizb Allah”; a.k.a. “Hizb Ullah”; a.k.a. “Hizbulah”; a.k.a. “Hizbullah”; a.k.a. “Qari Hizbullah”), House Number 5, Akhunabad, Shaheen Muslim Town, Peshawar, Pakistan; House Number 5, Akhunabad, Chok Yadagr Branch, Peshawar, Pakistan; Matin, Darah-ye Pech District, Kunar Province, Afghanistan; DOB 01 Mar 1982; alt. DOB 03 Jan 1982; POB Peshawar, Pakistan; nationality Pakistan; National ID No. 1730113198199 (Pakistan) (individual) [SDGT] (Linked To: AMEEN AL-PESHAWARI, Fazeel-A-Tul Shaykh Abu Mohammed).

Designated pursuant to section 1(c) of Executive Order 13224 of September 23, 2001, “Blocking Property and Prohibiting Transactions With Persons Who Commit, Threaten to Commit, or Support Terrorism” (E.O. 13224) for acting for or on behalf of AMEEN AL-PESHAWARI, Fazeel-A-Tul Shaykh Abu Mohammed, an individual determined to be subject to E.O. 13224.

3. KHAN, Dilawar Khan Nadir (a.k.a. KHAN, Dilawar), Peshawar, Khyber Pahktunkhwa Province, Pakistan; DOB 1982; alt. DOB 1981; POB Lower Dir, Khyber Pakhtunkhwa Province, Pakistan; nationality Pakistan; citizen Pakistan (individual) [SDGT] (Linked To: AMEEN AL-PESHAWARI, Fazeel-A-Tul Shaykh Abu Mohammed).

Designated pursuant to section 1(c) of Executive Order 13224 of September 23, 2001, “Blocking Property and Prohibiting Transactions With Persons Who Commit, Threaten to Commit, or Support Terrorism” (E.O. 13224) for acting for or on behalf of AMEEN AL-PESHAWARI, Fazeel-A-Tul Shaykh Abu Mohammed, an individual determined to be subject to E.O. 13224.

Dated: February 7, 2018.
Andrea Gacki,
Acting Director, Office of Foreign Assets Control.

[FR Doc. 2018-02831 Filed 2-12-18; 8:45 am]

BILLING CODE 4810-AL-P